LEGAL SERVICES CORPORATION

Sunshine Act Meetings

Notice

DATE AND TIME: The Legal Services Corporation Board of Directors and its committees will meet on April 15-16, 2011. On Friday, April 15th, the first meeting will commence at 9 a.m., Eastern Daylight Time. On Saturday, April 16th, the first meeting will commence at 9 a.m., Eastern Daylight Time. On each of these two days, each meeting other than the first meeting of the day will commence promptly upon adjournment of the immediately preceding meeting. Please note that on Friday, April 15th, meetings of the Audit Committee and Development Committee will run concurrently after the meeting of the Finance Committee.

LOCATION: The Westin Hotel, 6631 Broad Street, Richmond, VA 23230.

PUBLIC OBSERVATION: Unless otherwise noticed, all meetings of the LSC Board of Directors are open to public observation. Members of the public who are unable to attend but wish to listen to a public proceeding may do so by following the telephone call-in directions provided below and are asked to keep their telephones muted to eliminate background noises. From time to time the presiding Chair may solicit comments from the public.

CALL-IN DIRECTIONS FOR OPEN SESSIONS: • Call toll-free number: 1-866-451-4981;

• When prompted, enter the following numeric pass code: 5907707348 (or 2755431953 to access the concurrent Development Committee meeting on April 15, 2011);

• When connected to the call, please “MUTE” your telephone immediately.

Meeting Schedule:
| Time ¹
Friday, April 15, 2011
1. Promotion & Provision for the Delivery of Legal Services Committee | 9 a.m.
2. Operations & Regulations Committee
3. Finance Committee
4. Audit Committee*
5. Development Committee*
Saturday, April 16, 2011
1. Governance & Performance Review Committee | 9 a.m.
2. Board of Directors

STATUS OF MEETING: Open, except as noted below.

¹ Please note that all times in this notice are in the Eastern Daylight Time.

* The Audit Committee meeting will run concurrently with the meeting of the Development Committee upon conclusion of the meeting of the Finance Committee.

• Board of Directors—Open, except that a portion of the meeting of the Board of Directors may be closed to the public pursuant to a vote of the Board of Directors to consider and act on a personnel benefits matter, to hear briefings from management and LSC's Inspector General, and to consider and act on the General Counsel's report on potential and pending litigation involving LSC.²

² Any portion of the closed session consisting solely of staff briefings does not fall within the Sunshine Act's definition of the term “meeting” and, therefore, the requirements of the Sunshine Act do not apply to such portion of the closed session. 5 U.S.C. 552b(a)(2) and (b). See also 45 CFR 1622.2 & 1622.3.

A verbatim written transcript will be made of the closed session of the Board meeting. However, the transcript of any portions of the closed session falling within the relevant provisions of the Government in the Sunshine Act, 5 U.S.C. 552b(c)(2) and (c)(10), and the corresponding provisions of the Legal Services Corporation's implementing regulation, 45 CFR 1622.5(a) and (h), will not be available for public inspection. A copy of the General Counsel's Certification that in his opinion the closing is authorized by law will be available upon request.

MATTERS TO BE CONSIDERED:

Friday, April 15, 2011

Promotion and Provision for the Delivery of Legal Services Committee

Agenda

Open Session

1. Approval of agenda.

2. Approval of minutes of the Committee's meeting of January 28, 2010.

3. Presentation by panel on domestic violence practice and issues.

4. Presentation by Virginia programs.

5. Consider and act on possible revisions to the Committee's charter.

6. Public comment.

7. Consider and act on other business.

8. Consider and act on adjournment of meeting.

Operations and Regulations Committee

Agenda

Open Session

1. Approval of agenda.

2. Approval of minutes of the Committee's meeting of January 28, 2011.

3. Consider and act on Draft Final Rule on 45 CFR Part 1609 to clarify scope of fee-generating case restrictions to non-LSC fund supported cases.

a. Presentation by Mattie Cohan, Senior Assistant General Counsel.

b. Public comment.

4. Consider and act on 2010 census and formula distribution issues.

• Presentation by Bristow Hardin, Program Analyst III, Office of Program Performance (OPP); and by John Constance, Director, Office of Government Relations and Public Affairs (GRPA).

5. Consider and act on strategic planning.

• Presentation by Mattie Cohan, Senior Assistant General Counsel.

6. Public comment.

7. Consider and act on other business.

8. Consider and act on adjournment of meeting.

Finance Committee

Agenda

Open Session

1. Approval of agenda.

2. Approval of the minutes of the Committee's meeting of January 28, 2011.

3. Consider and act on the Revised Operating Budget for FY 2011 and recommend Resolution 2011-XXX to the full Board.

• Presentation by David Richardson, Treasurer/Comptroller.

4. Presentation on LSC's Financial Reports for the first five months of FY 2011.

• Presentation by David Richardson, Treasurer/Comptroller.

5. Report on FY 2011 appropriations process.

• Report by John Constance, Director, Office of Government Relations and Public Affairs.

6. Report on FY 2012 appropriations process.

• Report by John Constance, Director, Office of Government Relations and Public Affairs.

7. Report on FY 2013 appropriations process.

a. Report by David Richardson, Treasurer/Comptroller.

b. Comments by John Constance, Director, Office of Government Relations and Public Affairs.

8. Public comment.

9. Consider and act on other business.

10. Consider and act on adjournment of meeting.

Audit Committee

Agenda

Open Session

1. Approval of agenda.

2. Approval of minutes of the Committee's January 28, 2011 meeting.

3. Review of Audit Committee charter and consider and act on possible changes thereto.

4. Quarterly review of 403(b) plan performance.

• Alice Dickerson, Director, Office of Human Resources.

5. Audit follow-up questions.

• Ronald Merryman, Assistant Inspector General for Audits.

6. Briefing by Inspector General.

7. Briefing on technology security.

• Jeff Morningstar, Director, Office of Information Technology.

8. Public comment.

9. Consider and act on other business.

10. Consider and act on adjournment of meeting.

Development Committee

Agenda

Open Session

1. Approval of agenda.

2. Approval of minutes of the Committee's January 28, 2011 meeting.

3. Consider and act on Development Officer job description or RFP for a Development Consultant.

4. Public comment.

5. Consider and act on other business.

6. Consider and act on adjournment of meeting.

Saturday, April 16, 2011

Governance and Performance Review Committee

Agenda

Open Session

1. Approval of agenda.

2. Approval of minutes of the Committee's meeting of January 28, 2011.

3. Staff report on progress on implementation of GAO recommendations.

• Report by John Constance, Director, Office of Government Relations and Public Affairs.

4. Consider and act on Inspector General's evaluation for 2010.

5. Discussion of research agenda and next step(s).

6. Consider and act on other business.

7. Public comment.

8. Consider other business and act on motion to adjourn meeting.

Board of Directors

Agenda

Open Session

1. Pledge of Allegiance

2. Approval of agenda.

3. Approval of Minutes of the Board's Open Session Annual meeting of January 29, 2011.

4. Approval of Minutes of the Board's Open Session meeting of March 31, 2011.

5. Chairman's Report.

6. Members' Reports.

7. President's Report.

8. Inspector General's Report.

9. Consider and act on the report of the Promotion & Provision for the Delivery of Legal Services Committee.

10. Consider and act on the report of the Finance Committee.

11. Consider and act on the report of the Audit Committee.

12. Consider and act on the report of the Operations & Regulations Committee.

13. Consider and act on the report of the Governance & Performance Review Committee.

14. Consider and act on the report of the Development Committee.

15. Consider and act on status report on the work of the Special Task Force on Fiscal Oversight.

16. Public comment.

17. Consider and act on other business.

18. Consider and act on whether to authorize an executive session of the Board to address items listed below under Closed Session.

Closed Session

19. Approval of Minutes of the Board's Closed Session Annual meeting of January 29, 2011.

20. Briefing by Management.

21. Consider and act on personnel benefits matter.

22. Briefing by the Inspector General.

23. Consider and act on General Counsel's report on potential and pending litigation involving LSC.

24. Consider and act on motion to adjourn meeting.

CONTACT PERSON FOR INFORMATION: Katherine Ward, Executive Assistant to the Vice President & General Counsel, at (202) 295-1500. Questions may be sent by electronic mail to FR_NOTICE_QUESTIONS@lsc.gov.

SPECIAL NEEDS: Upon request, meeting notices will be made available in alternate formats to accommodate visual and hearing impairments. Individuals who have a disability and need an accommodation to attend the meeting may notify Katherine Ward, at (202) 295-1500 or FR_NOTICE_QUESTIONS@lsc.gov.

Dated: April 6, 2011.
Victor M. Fortuno,
Vice President, General Counsel & Corporate Secretary.

[FR Doc. 2011-8652 Filed 4-7-11; 11:15 am]

BILLING CODE 7050-01-P